DEPARTMENT OF AGRICULTURE

Agricultural Marketing Service

7 CFR Part 1260

[No. AMS-LP-19-0054]

Beef Promotion and Research Rules and Regulations

Correction

In rule document 2019-28058 beginning on page 825 in the issue of Wednesday, January 8, 2020, make the following correction:

§ 1260.172 [Corrected]

On page 826, table 2, should appear as follows:

Table 2 to Paragraph (b)(2)—Imported Beef and Beef Products
HTS code | Assessment rate per kg
0201.10.0510 | .01431558
0201.10.0590 | .00379102
0201.10.1010 | .01431558
0201.10.1090 | .00379102
0201.10.5010 | .01431558
0201.10.5090 | .00511787
0201.20.0200 | .00530743
0201.20.0400 | .00511787
0201.20.0600 | .00379102
0201.20.1000 | .00530743
0201.20.3000 | .00511787
0201.20.5015 | .01431558
0201.20.5025 | .00379102
0201.20.5035 | .00379102
0201.20.5045 | .00379102
0201.20.5055 | .00379102
0201.20.5065 | .00379102
0201.20.5075 | .00379102
0201.20.5085 | .00379102
0201.20.8090 | .00379102
0201.30.0200 | .00530743
0201.30.0400 | .00511787
0201.30.0600 | .00379102
0201.30.1000 | .00530743
0201.30.3000 | .00511787
0201.30.5015 | .02090075
0201.30.5025 | .00511787
0201.30.5035 | .00511787
0201.30.5045 | .00511787
0201.30.5055 | .00511787
0201.30.5065 | .00511787
0201.30.5075 | .00511787
0201.30.5085 | .00511787
0201.30.8090 | .00511787
0202.10.0510 | .01431558
0202.10.0590 | .00379102
0202.10.1010 | .01431558
0202.10.1090 | .00370102
0202.10.5010 | .01431558
0202.10.5090 | .00379102
0202.20.0200 | .00530743
0202.20.0400 | .00511787
0202.20.0600 | .00379102
0202.20.1000 | .00530743
0202.20.3000 | .00511787
0202.20.5025 | .00379102
0202.20.5035 | .00379102
0202.20.5045 | .00379102
0202.20.5055 | .00379102
0202.20.5065 | .00379102
0202.20.5075 | .00379102
0202.20.5085 | .00379102
0202.20.8000 | .00379102
0202.30.0200 | .00530743
0202.30.0400 | .00511787
0202.30.0600 | .00527837
0202.30.1000 | .00530743
0202.30.3000 | .00511787
0202.30.5015 | .02090075
0202.30.5025 | .00511787
0202.30.5035 | .00511787
0202.30.5045 | .00511787
0202.30.5055 | .00511787
0202.30.5065 | .00511787
0202.30.5075 | .00511787
0202.30.5085 | .00511787
0202.30.8000 | .00379102
0206.10.0000 | .00379102
0206.21.0000 | .00379102
0206.22.0000 | .00379102
0206.29.0000 | .00379102
0210.20.0000 | .00615701
1601.00.4010 | .00473877
1601.00.4090 | .00473877
1601.00.6020 | .00473877
1602.50.0500 | .00771610
1602.50.0720 | .00663428
1602.50.0740 | .00663428
1602.50.0800 | .00663428
1602.50.2120 | .00701388
1602.50.2140 | .00701388
1602.50.6000 | .00720293

[FR Doc. C1-2019-28058 Filed 1-23-20; 8:45 am]

BILLING CODE 1301-00-D